DEPARTMENT OF THE INTERIOR

Bureau of Land Management

[BLM_CA_FRN_MO4500178030]

Notice of Public Meetings of the California Desert District Advisory Council

AGENCY: Bureau of Land Management, Interior.

ACTION: Notice of public meetings.

SUMMARY: In accordance with the Federal Land Policy and Management Act of 1976, and the Federal Advisory Committee Act of 1972, the U.S. Department of the Interior, Bureau of Land Management (BLM) California Desert District Advisory Council (Council) will meet as indicated below.

DATES: The 2024 schedule of meetings for the Council is as follows: April 27, 2024; August 10, 2024; and December 7, 2024. All three meetings will be held from 9 a.m. to 3 p.m. Pacific Time. A virtual participation option will also be available on the Zoom platform. Field tours may be held from 9 a.m. to 3 p.m. the day before each meeting. If weather or other circumstances arise and an on-site meeting is cancelled, the meeting will be held virtually via Zoom and the field tour will not occur.

ADDRESSES: The April meeting will be held at the El Centro Field Office, 1661 S. 4th Street, El Centro, CA 92243; the August meeting will be held at the Needles Field Office, 1303 S. Highway 95, Needles, CA 92363; and the December meeting will be held at the Barstow Field Office, 2601 Barstow Road, Barstow, CA 92311. The agendas for the public meetings, virtual meeting participation information, and field tours details will be posted on the Council's web page at: https://www.blm.gov/get-involved/rac/california/california-desert-district, at least 2 weeks in advance of the meetings. Field tour participants must register to attend 7 days in advance.

Members of the public are welcome on field tours but must provide their own transportation and meals.

FOR FURTHER INFORMATION CONTACT: Kate Miyamoto, BLM California Desert District Office, telephone: 760-883-8528, email: kmiyamoto@blm.gov.

Individuals in the United States who are deaf, deafblind, hard of hearing, or have a speech disability may dial 711 (TTY, TDD, or TeleBraille) to access telecommunications relay services. Individuals outside the United States should use the relay services offered within their country to make international calls to the point-of-contact in the United States.

SUPPLEMENTARY INFORMATION: The Council provides recommendations to the Secretary of the Interior concerning the planning and management of public land resources in the BLM's California Desert District and offers advice on implementing the comprehensive, long-range plan for management, use, development, and protection of the public lands within the California Desert Conservation Area. Agenda topics for the April meeting may include presentations on the Salton Sea, off-highway vehicle recreation and visitation in the El Centro Field Office, and overviews from the district and field offices and fire program. Agenda topics for the August meeting may include presentations on the Mojave Trails National Monument planning effort, the East Mojave Trail and partnership, and overviews from the district and field offices and fire program. Agenda topics for the December meeting may include a vote on the Barstow Business Plan, proposed recreation fees and plans for the Desert Discovery Center, and overviews from the district and field offices and fire program.

All Council meetings are open to the public. There will be an opportunity for public comment during the meeting. Depending on the number of people who wish to speak and the time available, the time for individual comments may be limited. Written comments for the Council may be sent electronically in advance of the scheduled meetings to Public Affairs Officer Kate Miyamoto at kmiyamoto@blm.gov or in writing to BLM California Desert District/Public Affairs, 1201 Bird Center Drive, Palm Springs, CA 92262. Written comments will also be accepted at the time of the public meeting.

While each of the meetings are scheduled from 9 a.m. to 3 p.m., meetings could end prior to 3 p.m. should the Council conclude its business. Members of the public interested in a specific agenda item or discussion should schedule their arrival accordingly.

Before including your address, phone number, email address, or other personal identifying information in your comment, be aware that your entire comment—including your personal identifying information—may be made publicly available at any time. While you can ask us in your comment to withhold your personal identifying information from public review, we cannot guarantee that we will be able to do so.

Meeting Accessibility/Special Accommodations

Please make requests in advance for sign language interpreter services, assistive listening devices, or other reasonable accommodations. Contact the person listed in the FOR FURTHER INFORMATION CONTACT section of this notice at least 7 business days prior to the meeting to give the Department of the Interior sufficient time to process your request. All reasonable accommodation requests are managed on a case-by-case basis.

(Authority: 43 CFR 1784.4-2)

Michelle Lynch,
California Desert District Manager.

[FR Doc. 2024-06652 Filed 3-27-24; 8:45 am]

BILLING CODE 4331-15-P